DEPARTMENT OF AGRICULTURE

Animal and Plant Health Inspection Service

[Docket No. APHIS-2013-0052]

Notice of Decision To Authorize the Importation of Swiss Chard From Colombia Into the Continental United States

AGENCY: Animal and Plant Health Inspection Service, USDA.

ACTION: Notice.

SUMMARY: We are advising the public of our decision to authorize the importation into the continental United States of Swiss chard from Colombia. Based on the findings of a pest risk analysis, which we made available to the public for review and comment through a previous notice, we have determined that the application of one or more designated phytosanitary measures will be sufficient to mitigate the risks of introducing or disseminating plant pests or noxious weeds via the importation of Swiss chard from Colombia.

DATES: Effective: November 20, 2013.

FOR FURTHER INFORMATION CONTACT: Ms. Dorothy Wayson, Senior Regulatory Policy Specialist, Plant Health Programs, PPQ, APHIS, 4700 River Road Unit 133, Riverdale, MD 20737-1231; (301) 851-2036.

SUPPLEMENTARY INFORMATION:

Background

Under the regulations in “Subpart-Fruits and Vegetables” (7 CFR 319.56-1 through 319.56-61, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may begin issuing permits for importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice¹ in the Federal Register on July 8, 2013 (78 FR 40688-40689, Docket No. APHIS-2013-0052), in which we announced the availability, for review and comment, of a PRA that evaluated the risks associated with the importation into the continental United States of Swiss chard (Beta vulgaris ssp. cicla (L.) Koch) from Colombia. The PRA consisted of a risk assessment identifying pests of quarantine significance that could follow the pathway of importation of Swiss chard from Colombia into the continental United States and a risk management document identifying phytosanitary measures to be applied to that commodity to mitigate the pest risk. We solicited comments on the notice for 60 days ending on September 6, 2013. We did not receive any comments by that date.

¹ To view the notice and the PRA, go to http://www.regulations.gov/#!docketDetail;D=APHIS-2013-0052.

Therefore, in accordance with the regulations in § 319.56-4(c)(2)(ii), we are announcing our decision to authorize the importation into the continental United States of Swiss chard from Colombia subject to the following phytosanitary measures:

• The Swiss chard must be imported in commercial consignments only;

• The Swiss chard is subject to inspection at the port of entry; and

• The Swiss chard must be accompanied by a phytosanitary certificate issued by the national plant protection organization of Colombia with the additional declaration stating that the consignment was inspected and found free of Copitarsia incommoda and Liriomyza huidobrensis.

These conditions will be listed in the Fruits and Vegetables Import Requirements database (available at http://www.aphis.usda.gov/favir). In addition to these specific measures, Swiss chard from Colombia will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 13th day of November 2013.
Michael C. Gregoire,
Acting Administrator, Animal and Plant Health Inspection Service.

[FR Doc. 2013-27703 Filed 11-19-13; 8:45 am]

BILLING CODE 3410-34-P